DEPARTMENT OF HEALTH AND HUMAN SERVICES

Administration for Children and Families

Submission for OMB Review; ACF-801: Child Care and Development Fund (CCDF) Quarterly Case-Level Report, (OMB #0970-0167)

AGENCY: Office of Child Care, Administration for Children and Families, HHS.

ACTION: Request for public comment.

SUMMARY: The Office of Child Care (OCC), Administration for Children and Families (ACF) is requesting a 3-year extension of the form ACF-801: CCDF Quarterly Case-Level Report (OMB #0970-0167, expiration 2/28/2022). OCC proposes minor changes to the response categories under the following three data elements: Child's gender, ethnicity, and race.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. All emailed requests should be identified by the title of the information collection.

SUPPLEMENTARY INFORMATION: Description: The ACF-801 provides monthly case-level data on the children and families receiving direct child care services under CCDF. The ACF-801 case-level data are reported either monthly or quarterly. OCC added “no response” categories under the following three data elements: child's gender, ethnicity, and race.

Respondents: State and Territory Lead Agencies.

Annual Burden Estimates
Instrument | Total number of respondents | Annual number of responses per respondent | Average burden hours per response | Annual burden hours
ACF-801: CCDF Quarterly Case—Level Report | 56 | 4 | 25 | 5,600

Estimated Total Annual Burden Hours: 5,600.

Authority: Section 658K of the Child Care and Development Block Grant Act (42 U.S.C. 9858); regulations 45 CFR 98.70 and 98.71.

Mary B. Jones,
ACF/OPRE Certifying Officer.

[FR Doc. 2022-04000 Filed 2-24-22; 8:45 am]

BILLING CODE 4184-81-P